DEPARTMENT OF STATE

[Public Notice 5192]

Determination on Provision of Assistance to the United Nations Democracy Fund

Pursuant to section 451 of the Foreign Assistance Act of l961, as amended (the “Act”) (22 U.S.C. 2261) and section 1-100 of Executive Order 12163, as amended, I hereby authorize, notwithstanding any other provision of law, the use of up to $2,561,508 in fiscal year 2004 funds made available under chapter 3 of part I of the Act, up to $6,938,492 in FY 2004 and FY 2005 funds made available under chapter 4 of part II of the Act, and up to $500,000 in FY 2005 funds made available under chapter 9 of part II of the Act, in order to provide assistance authorized by part I of the Act for a contribution to the United Nations Democracy Fund. This Determination supersedes and replaces the Determination of July 27, 2005, on Provision of Assistance to United Nations Democracy Fund.

This Determination shall be reported to the Congress promptly, and shall be published in the Federal Register.

Dated: September 10, 2005.
Condoleezza Rice,
Secretary of State, Department of State.

[FR Doc. 05-18967 Filed 9-21-05; 8:45 am]

BILLING CODE 4710-37-P